DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker licenses are cancelled without prejudice.

Name | License No. | Issuing port
M.G. Otero Co., Inc | 12722 | Los Angeles.
Bernard M. Vas | 4463 | San Francisco.
Dan Lofgren | 22176 | San Francisco.
CCF International, Inc | 20340 | Dallas.
Alexander H. Foster | 13498 | Los Angeles.
Exim Solutions, Inc | 21876 | Los Angeles.
Jose Astengo, Jr | 3954 | San Francisco.
Dominion International, Inc | 14096 | Norfolk.
Duty Refund Services | 14364 | Detroit.
Pro-Log Services, Inc | 21068 | Houston.

Dated: April 13, 2006.
Jayson P. Ahern,
Assistant Commissioner, Office of Field Operations.

[FR Doc. E6-6111 Filed 4-21-06; 8:45 am]

BILLING CODE 9111-14-P